DEPARTMENT OF ENERGY

Federal Energy Regulatory Commission

[Docket No. CP09-429-000]

Columbia Gulf Transmission Company; Notice of Request Under Blanket Authorization

June 9, 2009.

Take notice that on June 8, 2009, Columbia Gulf Transmission Company (Columbia Gulf), 5151 San Felipe, Suite 2500, Houston, Texas 77056, filed a prior notice request pursuant to sections 157.205 and 157.216 of the Commission's regulations under the Natural Gas Act (NGA) for authorization to abandon, pursuant to Columbia Gulf's blanket certificate issued in Docket No. CP83-496-000, certain offshore natural gas facilities, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Columbia Gulf proposes to abandon approximately 5.5 miles of 16-inch pipeline (Segment 8310), Measuring Station 689, and appurtenances. Columbia Gulf states that Segment 8310 begins at the Garden Banks 236A platform and extends to a sub-sea interconnection at Garden Banks 149 in offshore Louisiana. Columbia Gulf asserts that Section 8310 will be abandoned in place and will be designated by the Mineral Management Service (MMS) as Segment #17594. Columbia Gulf states that Measuring Station 689 will be removed. Columbia Gulf asserts that production into the subject pipeline ceased in July of 2003, at which time Chevron notified Columbia Gulf that its production had been depleted and that it had no plans for future development. Columbia Gulf avers that the pipeline has been inactive since that time. Columbia Gulf states that Chevron has since notified Columbia Gulf that it intended to abandon its Garden Banks 236A platform to which the pipeline is connected. Columbia Gulf asserts that it does not propose the abandonment of any service as a result of the proposed abandonment nor does Columbia Gulf have any firm contracts utilizing the pipeline. Columbia Gulf estimates the costs of abandoning the pipeline to be approximately $3 million.

Any questions regarding this application should be directed to counsel for Columbia Gulf, Fredric J. George, Senior Counsel, P. O. Box 1273, Charleston, West Virginia 25325-1273; telephone (304) 357-2359, fax (304) 357-3206.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link.

Kimberly D. Bose,
Secretary.

[FR Doc. E9-14027 Filed 6-12-09; 8:45 am]

BILLING CODE 6717-01-P